DEPARTMENT OF TRANSPORTATION

Federal Aviation Administration

14 CFR Part 71

[Docket No. FAA-2005-20643; Airspace Docket No. 05-AAL-13]

Establishment of Class D Airspace; and Revision of Class E Airspace; Big Delta, Allen Army Airfield, Fort Greely, AK

AGENCY: Federal Aviation Administration (FAA), DOT.

ACTION: Final rule.

SUMMARY: This action establishes Class D airspace and revises Class E airspace at Big Delta, Allen Army Airfield (BIG) on Ft. Greely, Alaska. This action was taken at the request of the United States Army to enable them to establish the appropriate airspace to open an Airport Traffic Control Tower (ATCT) at BIG to support operations of the U.S. Army Space and Missile Defense Command. This action also enlarges Class E Airspace from 700 ft. above the surface to the point at which it is sufficient to contain aircraft executing standard instrument approach procedures (SIAP). The new BIG ATCT is being established to provide airport traffic control service to aircraft operating at BIG due to increased airport operations caused by an expanded homeland security mission at Ft. Greely.

EFFECTIVE DATE: 0901 UTC, December 22, 2005.

FOR FURTHER INFORMATION CONTACT: Derril Bergt, Alaska Flight Service Operations, Federal Aviation Administration, 222 West 7th Avenue, Box 14, Anchorage, AK 99513-7587; telephone number (907) 271-2796; fax: (907) 271-2850; e-mail: Derril.Bergt@faa.gov. Internet address: http://www.alaska.faa.gov/at.

SUPPLEMENTARY INFORMATION:

History

On Monday, April 18, 2005, the FAA proposed to revise part 71 of the Federal Aviation Regulations (14 CFR part 71) to establish Class D airspace and to revise Class E airspace from the surface at Big Delta, Allen Army Airfield, Fort Greely, Alaska (70 FR 20096). The action was proposed in order to add Class D airspace sufficient in size to provide airport traffic control at BIG. The United States Army Space and Missile Defense Command is the managing agency for BIG. They plan to open a new ATCT on December 22, 2005. The United States Army is taking this action in order to provide airport traffic control due to an increase in airport traffic caused by an expanded homeland security mission at Ft. Greely. Interested parties were invited to participate in this rulemaking proceeding by submitting written comments on the proposal to the FAA. One letter was received with comments.

The commenter, Alaska Airmen's Association, requested an exclusion corridor, to the west of BIG, through Class D airspace at and below 500 ft. above ground level (AGL), for aircraft landing at Delta Junction Airport (D66). The FAA has considered the Alaska Airmen's Association request and agrees that a low altitude exclusion area to allow access to D66, to and from the northwest, without communication with BIG ATCT during visual flight rules (VFR) conditions is acceptable. When conditions are below basic VFR (1,000 ft. ceiling and/or 3 miles visibility) a Special VFR Clearance will still be required within Class E or D airspace. D66 is contained within Class E airspace extending from the surface upward to the base of Class D airspace.

The Alaska Airmen's Association also requested an exclusion corridor from Donnelly Dome to the Big Delta Very High Frequency Omni-directional Radio Range (BIG) 260 radial at 10 nautical miles (nm), or, if this is not feasible, an exclusion area through Class D airspace along the Richardson Highway under 500 AGL from the BIG 160 radial at 5 nm direct to BIG 260 radial at 10 nm. The FAA has considered this proposal. The first option, an exclusion corridor from Donnelly Dome to the BIG 260 radial at 10 nm, will not be feasible because this routing would require the U.S. Army to discontinue use of Restricted Area 2202A (R2202A) within the confines of the proposed corridor. U.S. Army has informed the FAA that the airspace currently designated as R2202 cannot be made available for use as a non-radio corridor for aircraft during periods when R2202A is active without impacting training and testing negatively. As to the second option proposed, for a no-radio route from the BIG 160 radial at 5 nm to the BIG 260 at 10 nm, the close proximity of this proposed corridor to aircraft operating to/from Allen Army Airfield, and the security issues associated with homeland defense activities at Fort Greely preclude approval.

The area will be depicted on aeronautical charts for pilot reference. The coordinates for this airspace docket are based on North American Datum 83. The airspace area designated as Class D is published in paragraph 5000 of FAA order 7400.9N, Airspace Designations and Reporting Points, dated September 1, 2005 and effective September 16, 2005 which is incorporated by reference in 14 CFR 71.1. The Class E airspace areas designated as surface areas are published in paragraph 6002 and 6004 of FAA Order 7400.9N, Airspace Designations and Reporting Points, dated September 1, 2005, and effective September 16, 2005, which is incorporated by reference in 14 CFR 71.1. The Class E airspace areas designated as 700/1200 foot transition areas are published in paragraph 6005 of FAA Order 7400.9N, Airspace Designations and Reporting Points, dated September 1, 2005 and effective September 16, 2005 which is incorporated by reference in 14 CFR 71.1. The Class D and Class E airspace designations listed in this document will be revised subsequently in the Order.

The Rule

This rule establishes Class D airspace, and revises Class E airspace at BIG, Ft. Greely, Alaska. Class E airspace from the surface is incorporated into the rule to ensure that D66 remains within controlled airspace extending upwards from the surface. The BIG ATCT will operate continuously. Class E airspace that is an extension to the Class D airspace from the surface is revised to align with the new Class D airspace and is enlarged to encompass that area needed to provide air traffic control services to aircraft executing standard instrument approach procedures to BIG. The intended effect of this rule is to provide adequate controlled airspace for the BIG ATCT to provide airport traffic control services to VFR and Instrument Flight Rule (IFR) aircraft at BIG, Fort Greely, Alaska.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class D airspace sufficient in size to provide airport traffic control services, and Class E airspace sufficient to contain aircraft executing standard instrument approach procedures at BIG, Alaska, and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2005, and effective September 16, 2005, is amended as follows:

* * * * *

Paragraph 5000 Class D Airspace.

* * * * *

AAL AK D Big Delta, AK [New]

Big Delta, Allen AAF, AK

(Lat. 63°59′40″ N., long. 145°43′18″ W.)

Big Delta VORTAC

(Lat. 64°00′16″ N., long. 145°43′02″ W.)

Delta Junction Airport

(Lat. 64°03′02″ N., long. 145°43′02″ W.)

That airspace extending upward from the surface to and including 3,800 feet MSL within a 6.3-mile radius of the Allen AAF; excluding the portion within the boundary of restricted area 2202A, and excluding that portion at and below 700 feet above ground level from a point one-half mile south of the Delta Junction Airport (D66) extending via the 090 bearing to 1 mile east of the Alaska Highway and via the 270 bearing to 1 mile west of the Delta River; thence northwest parallel to the Alaska Highway and the Delta River, to the boundary of Class D airspace.

* * * * *

Paragraph 6002 Class E Airspace Designated as Surface Area.

* * * * *

AAL AK E2 Big Delta, AK [Revised]

Big Delta, Allen AAF, AK

(Lat. 63°59′40″ N., long. 145°43′18″ W.)

Big Delta VORTAC

(Lat. 64°00′16″ N., long. 145°43′02″ W.)

Within a 6.3-mile radius of the Allen AAF; excluding that portion within Class D airspace and excluding the portion within the boundary of restricted area 2202A

* * * * *

Paragraph 6004 Class E Airspace Designated as an Extension to a Class D or E Surface Area.

* * * * *

AAL AK E4 Big Delta, AK [New]

Big Delta, Allen AAF, AK

(Lat. 63°59′40″ N., long. 145°43′18″ W.)

Big Delta VORTAC

(Lat. 64°00′16″ N., long. 145°43′02″ W.)

That airspace extending upward from the surface within 3 miles north and 2.6 miles south of the Big Delta VORTAC 039° radial extending from the 6.3-mile radius of the Allen AAF to 10.3 miles northeast of the airport.

* * * * *

Paragraph 6005 Class E Airspace Areas Extending Upward from 700 feet of More Above the Surface of the Earth.

* * * * *

AAL AK E5 Big Delta, AK [Revised]

Big Delta, Allen AAF, AK

(Lat. 63°59′40″ N., long. 145°43′18″ W.)

Big Delta VORTAC

(Lat. 64°00′16″ N., long. 145°43′02″ W.)

That airspace extending upward from 700 feet above the surface within an 8.6-mile radius of the Allen AAF, excluding the portion within the boundary of restricted area 2202A; and within 3 miles north and 2.6 miles south of the Big Delta VORTAC 039° radial extending from the 8.6-mile radius of the Allen AAF to 10.3 miles northeast of the airport excluding Class D airspace.

* * * * *

Issued in Anchorage, AK, on September 14, 2005.
Michael A. Tarr,
Acting Area Director, Alaska Flight Service Operations.

[FR Doc. 05-18931 Filed 9-21-05; 8:45 am]

BILLING CODE 4910-13-P